DEPARTMENT OF COMMERCE

Foreign-Trade Zones Board

Docket 72-2008

Foreign-Trade Zone 26 Atlanta, GA, Request for Manufacturing Authority, Kia Motors Manufacturing Georgia, Inc. (Motor Vehicles)

An application has been submitted to the Foreign-Trade Zones Board (the Board) by the Georgia Foreign-Trade Zone, Inc., grantee of FTZ 26, pursuant to Section 400.28(a)(2) of the Board's regulations (15 CFR Part 400), requesting authority on behalf of Kia Motors Manufacturing Georgia, Inc. (KMMG), to produce light-duty passenger vehicles under FTZ procedures within FTZ 26. It was formally filed on December 16, 2008.

The KMMG plant (635 acres/2.4 million sq.ft.) is to be located at 7777 Kia Parkway in West Point (Troup County), Georgia (FTZ 26, Site T2). The facility, currently under construction, will be used to produce sedans, sport utility vehicles, and minivans for export and the domestic market. At full capacity, the facility (about 2,500 employees) will manufacture up to approximately 300,000 vehicles annually. Components to be purchased from abroad (representing up to 30% of total material inputs, by value) would include: oils, hydraulic fluids, pipe/tube of plastics, paint, plastic knobs, flexible rubber tubes/hoses, self-adhesive plastic or polyurethane sheets/foil/film, labels, tape, rubber belts, tires, gaskets, seals, floor mats, carpet sets, safety glass, mirrors, pipe fittings, stranded wire of steel and copper, pins, hangers, brake cables, body parts, trim parts, articles of base metals, doors, fasteners, cotter pins, helical springs, catalytic converters, locks and keys, spark-ignition and diesel engines, engine parts, pumps, compressors, air conditioner components, filters, valves, parts of steering systems, steering wheels, hubs and flanges, universal joints, clutches, half/drive shafts, transmissions and parts of transmissions, torque converters, differentials, bearings and parts thereof, compasses, thermostats, motors, batteries, ignition parts, electrical parts, lighting equipment, horns, windshield wipers, audio/video components, speakers, antennas, wiring harnesses, seats, seat belts, airbag modules/inflators, brake components, wheels, wheel locks, lug nuts, lug wrenches, suspension components, radiators, flat-rolled steel mill products (steel mill products subject to AD/CVD orders will be admitted in domestic (duty-paid) status), exhaust systems, hinges, torque converters, pneumatic dampeners, speedometers, tachometers, voltmeters, flow meters, regulators/controllers, windshields, glass windows, resistors, relays, starters, electrical components, clocks, spark plugs, and switches (duty rate range: free 9.0%).

FTZ procedures could exempt KMMG from customs duty payments on foreign components used in export production (estimated to be 10% of plant shipments). On its domestic sales, KMMG would be able to choose the duty rate that applies to finished passenger vehicles (2.5%) for the foreign inputs noted above that have higher rates. Certain logistical/supply chain management savings would also be realized through FTZ procedures. Customs duties also could possibly be deferred or reduced on foreign status production equipment. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is February 23, 2009. Rebuttal comments in response to material submitted during the foregoing period may be submitted during the subsequent 15-day period to March 9, 2009.

A copy of the application and accompanying exhibits will be available for public inspection at each of the following locations: U.S. Department of Commerce Export Assistance Center, 75 Fifth Street, N.W., Suite 1055, Atlanta, Georgia 30308; and, Office of the Executive Secretary, Foreign-Trade Zones Board, Room 2111, U.S. Department of Commerce, 1401 Constitution Avenue, NW, Washington, DC 20230-0002. For further information, contact Pierre Duy at pierre_duy@ita.doc.gov, or (202) 482-1378.

Dated: December 17, 2008.
Andrew McGilvray,
Executive Secretary.

[FR Doc. E8-30684 Filed 12-23-08; 8:45 am]

BILLING CODE 3510-DS-S